DEPARTMENT OF ENERGY

Federal Energy Regulatory Commission

[Project Nos. 77-316, 96-050, 137-216, 175-030, 233-245, 606-041, 619-175, 803-119, 1061-105, 1121-137, 1354-133, 1962-221, 1988-102, 2105-129, 2106-077, 2107-051, 2130-125, 2310-252, 2661-094, 2687-189, 2735-102, and 14531-002]

Pacific Gas and Electric Company, Pacific Generation LLC; Notice of Effectiveness of Withdrawal of Joint Application for Approval of Transfer of Licenses

On December 13, 2022, Pacific Gas and Electric Company and Pacific Generation LLC (applicants) filed a joint application for approval to transfer the following licenses:

Potter Valley Project No. 77,

Kerckhoff Project No. 96,

Mokelumne River Project No. 137,

Balch Project No. 175,

Pit 3, 4, and 5 Project No. 233,

Kilarc-Cow Creek Project No. 606,

Bucks Creek Project No. 619,

DeSabla-Centerville Project No. 803,

Phoenix Project No. 1061,

Battle Creek Project No. 1121,

Crane Valley Project No. 1354,

Rock Creek-Cresta Project No. 1962,

Haas-Kings River Project No. 1988,

Upper North Fork Feather River Project No. 2105,

McCloud-Pit Project No. 2106,

Poe Project No. 2107,

Spring Gap-Stanislaus Project No. 2130,

Upper Drum-Spaulding Project No. 2310,

Hat Creek Project No. 2661,

Pit No. 1 Project No. 2687,

Helms Pumped Storage Project No. 2735, and

Lower Drum Project No. 14531

On August 12, 2024, applicants filed a notice of withdrawal of their application.

No motion in opposition to the notice of withdrawal has been filed, and the Commission has taken no action to disallow the withdrawal. Pursuant to Rule 216(b) of the Commission's Rules of Practice and Procedure,¹ the withdrawal of the application became effective on August 27, 2024, and this proceeding is hereby terminated.

¹ 18 CFR 385.216(b) (2023).

Dated: September 6, 2024.
Debbie-Anne A. Reese,
Acting Secretary.

[FR Doc. 2024-20766 Filed 9-12-24; 8:45 am]

BILLING CODE 6717-01-P